FEDERAL RETIREMENT THRIFT INVESTMENT BOARD

Sunshine Act; Notice of Meeting

Time and Date: 10:00 a.m. (Eastern Time), August 17, 2009.

Place: 4th Floor Conference Room, 1250 H Street, NW., Washington, DC 20005.

Status: All parts will be open to the public.

Matters To Be Considered:

Parts Open to the Public

1. Approval of the minutes of the July 20, 2009 Board member meeting.

2. Thrift Savings Plan activity report by the Executive Director.

a. Monthly Participant Activity Report.

b. Investment Performance Report.

c. Legislative Report.

3. Project Management Overview.

Contact Person for More Information: Thomas J. Trabucco, Director, Office of External Affairs, (202) 942-1640.

Dated: August 7, 2009.
Thomas K. Emswiler,
Secretary, Federal Retirement Thrift Investment Board.

[FR Doc. E9-19418 Filed 8-10-09; 4:15 pm]

BILLING CODE 6760-01-P